DEPARTMENT OF COMMERCE

International Trade Administration

[A-570-852]

Creatine Monohydrate From the People's Republic of China; Final Results of Antidumping Duty Review

AGENCY: Import Administration, International Trade Administration, Department of Commerce.

ACTION: Notice of final results of antidumping duty review.

SUMMARY: On November 6, 2001, the Department of Commerce published the preliminary results of the administrative review of the antidumping duty order on creatine monohydrate from the People's Republic of China. We gave interested parties an opportunity to comment. Based upon our analysis of the comments and information received, we have made changes to the margin calculations presented in the final results of the review. We find that creatine monohydrate from the People's Republic of China was not sold in the United States below normal value.

EFFECTIVE DATE: March 11, 2002.

FOR FURTHER INFORMATION CONTACT: Blanche Ziv, Import Administration, International Trade Administration, U.S. Department of Commerce, 14th and Constitution Avenue, NW., Washington, DC 20230; telephone (202) 482-4207.

SUPPLEMENTARY INFORMATION:

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department”) regulations are to 19 CFR part 351 (2000).

Background

On November 6, 2001, the Department published in the Federal Register the preliminary results of its administrative review of creatine monohydrate (“creatine”) from the People's Republic of China (“PRC”) (Creatine Monohydrate from the People's Republic of China; Preliminary Results of Antidumping Duty Administrative Review, 66 FR 56054 (November 6, 2001) (“Preliminary Results”). We received a case brief from the respondent, Blue Science International Trading (Shanghai) Co., Ltd. (“Blue Science”), on December 6, 2001. The petitioners did not submit a case brief.

The Department has now completed the antidumping duty administrative review in accordance with section 751 of the Act.

Scope of Order

The product covered by this order is creatine monohydrate, which is commonly referred to as “creatine.” The chemical name for creatine monohydrate is N-(aminoiminomethyl)-N-methylglycine monohydrate. The Chemical Abstracts Service (“CAS”) registry number for this product is 6020-87-7. Creatine monohydrate in its pure form is a white, tasteless, odorless powder, that is a naturally occurring metabolite found in muscle tissue. Creatine monohydrate is provided for in subheading 2925.20.90 of the Harmonized Tariff Schedule of the United States (“HTSUS”). Although the HTSUS subheading and the CAS registry number are provided for convenience and customs purposes, the written description of the scope of this proceeding is dispositive.

Period of Review

The period of review (“POR”) is from July 30, 1999 through January 31, 2001.

Comparisons

We calculated export price and normal value based on the same methodology used in the Preliminary Results with the following exceptions:

• We have valued certain inputs using domestic prices in India rather than import prices;

• We have corrected a ministerial error made in valuing one input.

Analysis of Comments Received

All issues raised in Blue Science's case brief are addressed in the March 6, 2002, Issues and Decision Memorandum (“Decision Memorandum”) which is hereby adopted by this notice. Attached to this notice as an appendix is a list of the issues which Blue Science has raised and to which we have responded in the Decision Memorandum. Parties can find a complete discussion of all issues raised in this review and the corresponding recommendations in this public memorandum which is on file in the Central Records Unit, Room B-099 of the Department. In addition, a complete version of the Decision Memorandum can be accessed directly on the Web at http://ia.ita.doc.gov/frn/summary/list.htm. The paper copy and electronic version of the Decision Memorandum are identical in content.

Final Results of the Review

We will instruct the Customs Service to liquidate entries of the subject merchandise from Blue Science during the period July 30, 1999 through January 31, 2001 without regard to antidumping duties. All other entries of the subject merchandise during the POR will be liquidated at the antidumping rate in place at the time of entry.

Furthermore, the following deposit rates will be effective upon publication of these final results for all shipments of creatine from the PRC entered, or withdrawn from warehouse, for consumption on or after the publication date, as provided for by section 751(a)(1) of the Act: (1) For Blue Science, which has a separate rate, no antidumping duty deposit will be required; (2) for a company previously found to be entitled to a separate rate and for which no review was requested, the cash deposit rate will be the rate established in the most recent review of that company; (3) for all other PRC exporters the cash deposit rate will be 128.63 percent, the PRC-wide rate established in the less than fair value (“LTFV”) investigation; and (4) for non-PRC exporters of subject merchandise from the PRC, the cash deposit rate will be the rate applicable to the PRC supplier of that exporter. These deposit rates shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (“APO”) of their responsibility concerning the disposition of proprietary information disclosed under APO in accordance with 19 CFR 351.305(a)(3). Timely written notification of the return/destruction of APO materials or conversion to judicial protective order is hereby requested. Failure to comply with the regulations and the terms of an APO is a sanctionable violation.

This administrative review and notice are in accordance with sections 751(a)(1) and 777(i)(1) of the Act.

Dated: March 6, 2002.
Faryar Shirzad,
Assistant Secretary for Import Administration.

Appendix

List of Comments in the Issues and Decision Memorandum

Comment 1: Use of Import Prices v. Domestic Prices in India to Value Certain Inputs

Comment 2: Adjusting CIF Import Values to Remove International Freight

Comment 3: Correction of Ministerial Error

[FR Doc. 02-5777 Filed 3-8-02; 8:45 am]

BILLING CODE 3510-DR-P